ENVIRONMENTAL PROTECTION AGENCY

40 CFR Part 52

[EPA-R10-OAR-2013-0002: FRL-9908-38-Region-10]

Revision to the Idaho State Implementation Plan; Approval of Fine Particulate Matter Control Measures; Franklin County

AGENCY: Environmental Protection Agency (EPA).

ACTION: Final rule.

SUMMARY: On December 14, 2012, the Idaho Department of Environmental Quality (IDEQ) submitted a revision to the State Implementation Plan (SIP) to address Clean Air Act (CAA) requirements for the Idaho portion (hereafter referred to as “Franklin County”) of the cross border Logan, Utah-Idaho fine particulate matter (PM2.5) nonattainment area (Logan UT-ID). The EPA is finalizing a limited approval of PM2.5 control measures contained in the December 2012 submittal because incorporation of these measures strengthen the Idaho SIP and reduce sources of PM2.5 emissions in Franklin County that contribute to violations of the 2006 PM2.5 standard in the Logan UT-ID nonattainment area. We will address the remainder of the December 2012 SIP submission revision in a separate action.

DATES: This final rule is effective on April 24, 2014.

ADDRESSES: The EPA has established a docket for this action under Docket Identification No. EPA-R10-OAR-2013-0002. All documents in the docket are listed on the http://www.regulations.gov Web site. Although listed in the index, some information may not be publicly available, i.e., Confidential Business Information or other information the disclosure of which is restricted by statute. Certain other material, such as copyrighted material, is not placed on the Internet and will be publicly available only in hard copy form. Publicly available docket materials are available either electronically through http://www.regulations.gov or in hard copy at EPA Region 10, Office of Air, Waste, and Toxics, AWT-107, 1200 Sixth Avenue, Seattle, Washington 98101. The EPA requests that you contact the person listed in the FOR FURTHER INFORMATION CONTACT section to schedule your inspection. The Regional Office's official hours of business are Monday through Friday, 8:30 a.m. to 4:30 p.m., excluding Federal holidays.

FOR FURTHER INFORMATION CONTACT: Jeff Hunt at (206) 553-0256, hunt.jeff@epa.gov, or the above EPA, Region 10 address.

SUPPLEMENTARY INFORMATION: Throughout this document, wherever “we,” “us,” or “our” is used, it is intended to refer to the EPA.

Table of Contents

I. Background

II. Final Action

III. Statutory and Executive Order Reviews

I. Background

An explanation of the CAA requirements, a detailed explanation of the revision, and the EPA's reasons for the limited approval of the SIP submission were provided in the notice of proposed rulemaking published on December 26, 2013, and will not be restated here (78 FR 78315). The public comment period for this proposed rule ended on January 27, 2014. The EPA did not receive any comments on the proposal.

II. Final Action

The EPA is approving and incorporating into the SIP the PM2.5 control measures submitted by IDEQ on December 14, 2012, except for certain provisions related to penalties. Provisions describing state or local enforcement authority are not incorporated into the SIP to avoid potential conflict with the EPA's independent authorities. The specific penalty provisions excluded from the EPA's incorporation by reference are listed in the docket for this action and in the table located in 40 CFR 52.670(c).

As described in the proposed rulemaking for this action, the EPA is not making a determination that these control measures satisfy Reasonably Available Control Measures (RACM) or any other statutory nonattainment area planning requirements under CAA title I, part D, subpart 4. However, the control measures adopted by IDEQ in the Franklin County portion of the Logan UT-ID nonattainment area provide important PM2.5 reductions that strengthen the existing Idaho SIP. Due to the cross-state nature of the Logan UT-ID nonattainment area, the EPA will act on the remainder of Idaho's December 2012 SIP submission in a separate action, following a complete review of the corresponding Utah SIP submission.

III. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501, et seq.);

• is certified as not having a significant economic impact on a substantial number of small entities under the Regulatory Flexibility Act (5 U.S.C. 601, et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and the EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 27, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Particulate matter, Reporting and recordkeeping requirements.

Dated: March, 10, 2014.
Dennis J. McLerran,
Regional Administrator, Region 10.

40 CFR part 52 is amended as follows:

PART 52—APPROVAL AND PROMULGATION OF IMPLEMENTATION PLANS

1. The authority citation for part 52 continues to read as follows:

Authority: 42 U.S.C. 7401 et seq.

Subpart N—Idaho

2. Section 52.670 is amended:

a. In paragraph (c) in the table entitled “EPA-APPROVED IDAHO REGULATIONS AND STATUTES” by adding seven new entries at the end of the section entitled “City and County Ordinances.”

b. In paragraph (e) in the table entitled “EPA-APPROVED IDAHO NONREGULATORY PROVISIONS AND QUASI-REGULATORY MEASURES” by adding two new entries at the end of the table.

The revisions read as follows:

§ 52.670 Identification of plan.

* * * * *

(c) * * *

EPA-Approved Idaho Regulations and Statutes
State citation | Title/subject | State effective date | EPA approval date | Explanations
| * * * * * * *
City and County Ordinances
| * * * * * * *
City of Clifton Ordinance No. 120 | Ordinance No. 120 | 08/11/12 | 3/25/14 [Insert page number where the document begins] | Except Section 9 (Penalty).
City of Dayton Ordinance #287 | Ordinance #287 | 08/08/12 | 3/25/14 [Insert page number where the document begins] | Except Section 9 (Penalty).
Franklin City Ordinance No. 2012-9-12 | Solid Fuel Heating Appliances | 09/12/12 | 3/25/14 [Insert page number where the document begins] | Except Section 9 (Penalty).
Franklin County Ordinance No. 2012-6-25 | Solid Fuel Heating Appliances | 06/25/12 | 3/25/14 [Insert page number where the document begins] | Except Section 9 (Penalty).
City of Oxford Memorandum of Understanding | Solid Fuel Heating Appliances | 10/22/12 | 3/25/14 [Insert page number where the document begins] | Except #2 of the MOA and Section 9 of Exhibit A.
City of Preston Ordinance No. 2012-1 | Ordinance No. 2012-1 | 06/11/12 | 3/25/14 [Insert page number where the document begins] | Except Section 9 (Penalty).
City of Weston Ordinance No. 2012-01 | Ordinance No. 2012-01 | 08/01/12 | 3/25/14 [Insert page number where the document begins] | Except Section 9 (Penalty).
| * * * * * * *

* * * * *

(e) * * *

EPA-Approved Idaho Nonregulatory Provisions and Quasi-Regulatory Measures
Name of SIP provision | Applicable geographic or nonattainment area | State submittal date | EPA approval date | Comments
| * * * * * * *
Letter of Intent PM 2.5 Reduction, Franklin County Road Department to Department of Environmental Quality (Voluntary Measure) | Franklin County, Logan UT-ID PM2.5 Nonattainment Area | 12/19/12 | 3/25/14 [Insert page number where the document begins] | Fine Particulate Matter Control Measures; Franklin County.
Road Sanding Agreement, Idaho Transportation Department to Idaho Department of Environmental Quality (Voluntary Measure) | Franklin County, Logan UT-ID PM2.5 Nonattainment Area | 12/19/12 | 3/25/14 [Insert page number where the document begins] | Fine Particulate Matter Control Measures; Franklin County.

[FR Doc. 2014-06352 Filed 3-24-14; 8:45 am]

BILLING CODE 6560-50-P